DEPARTMENT OF AGRICULTURE

Forest Service

Request for Proposals for Woody Biomass Utilization Grant—Hazardous Fuel Reduction on National Forest System Lands

AGENCY: Forest Service, USDA.

ACTION: Request for Proposals.

SUMMARY: The USDA Forest Service, State and Private Forestry, Technology Marketing Unit, located at the Forest Products Laboratory, requests proposals for forest products projects that increase the use of woody biomass from or near national forest lands. The woody biomass utilization grant program is intended to help improve forest restoration activities by using and creating markets for small-diameter material and low-valued trees removed from hazardous fuel reduction activities. These funds are targeted to help communities, entrepreneurs, and others turn residues from hazardous fuel reduction projects into marketable forest products and/or energy products.

DATES: Pre-application Deadline: Close of business December 1, 2005.

Full application Deadline: Close of business March 1, 2006.

ADDRESSES: All pre- and full-application packages must be sent to the following address: ATTN: Shawn Lacina, Grants and Agreements Specialist, Forest Products Laboratory, 507 Highland Ave., Madison, WI 53705-2398. More detailed information regarding what to include in the pre- and full-application and definitions of terms are available at http://www.fpl.fs.fed.us/tmu (under Woody Biomass Grants). Paper copies of the information are also available by contacting the USDA Forest Service, S&PF Technology Marketing Unit, Madison, Wisconsin.

FOR FURTHER INFORMATION CONTACT: Shawn Lacina, Grants and Agreements Specialist, (608) 231-9282, e-mail to slacina@fs.fed.us, or; technical questions, contact Susan LeVan-Green, Program Manager, (608) 231-9504, e-mail to slevan@fs.fed.us.

SUPPLEMENTARY INFORMATION: To meet the shared goals of Public Law 108-148 Healthy Forest Restoration Act, Public Law 109-190 the Energy Policy Act of 2005, and Public Law 109-54 Appropriation Act of 2006, the agency is requesting proposals to address the nationwide challenge in dealing with low-valued material removed from hazardous fuel reduction activities. The Woody Biomass Utilization Grant Program has a pre-application submission process, and upon notification, selected pre-applicants will be asked to submit a full application. Goals of the grant program are the following:

• Help reduce management costs by increasing value of biomass and other forest products generated by hazardous fuel treatments.

• Create incentives and/or reduce business risk for increased use of biomass from or near national forestlands (must include National Forest System lands, however, may also include other lands such as, Bureau of Land Management, Tribal, State, local, and private).

• Institute projects that target and help remove economic and market barriers to using small-diameter trees and woody biomass.

• Require a Forest Service letter of support for the woody biomass grant project on or near National Forest System lands.

Woody Biomass Grants Program

1. Eligibility Information. a. Eligible Applicants. Eligible applicants are State, local, and Tribal governments, school districts, communities, non-profit organizations, businesses, companies, corporations, or special purpose districts, e.g., public utilities districts, fire districts, conservation districts, or ports. Only one application per business or organization will be accepted. Construction projects involving a permanent building or infrastructure item, such as roads, are not allowed.

b. Cost Sharing (Matching Requirement). Applicants must demonstrate at least a 20% match from non-Federal sources, which can include cash or in-kind contributions.

2. Duns Number. All applicants must include a Dun and Bradstreet (D&B), Data Universal Numbering System (DUNS) number in their full application. For the purpose of this requirement, the applicant is the entity that meets the eligibility criteria and has the legal authority to apply for an award. For assistance in obtaining a DUNS number at no cost, call the DUNS number request line (1-866-705-5711) or register on-line at https://eupdate.dnb.com/requestoptions/government/ccrreg/.

3. Award Information. At least $4.0 million are available for granting under this program. Individual grants will not be less than $50,000 or more than $250,000. Successful applicants will be announced by April 1, 2006. The maximum length of the award is 3 years from the date of award. Written, quarterly financial and semi-annual performance reports will be required.

4. Application Review Process. A two-step technical evaluation process is used for applications submitted under this solicitation. The first step requires the applicant to submit a preliminary application (pre-application). Pre-applications are evaluated on the evaluation criteria discussed in Section 5.

A review panel of technical experts from Federal agencies judges the pre-applications. Panel members independently review the pre-applications according to the evaluation criteria and point system. A total of 100 points is possible. As a result of this preliminary review, successful pre-applications are invited to submit a full-application package. Unsuccessful pre-applicants are removed from further consideration for funding under this solicitation. In either case, a letter of notification is provided to each applicant.

The second step requires the applicant to submit a full-application package, which is evaluated based on the same evaluation criteria as the preliminary application. The full-application package is evaluated for technical and financial feasibility. The reviewers discuss, rank, and make recommendations to an Executive Steering Committee of Senior Federal officials.

5. Evaluation Criteria and Point System. a. Impact on National Forest System Lands Hazardous Fuel Reduction Activities: Total Points 40.

• Fire Regime Condition Class (http://www.frcc.gov).

• Direct, tangible benefits with and without the grant (e.g., increased acres treated for hazardous fuel treatments, increased value of raw material removed from hazardous fuel treatments, reduced cost per acre, etc).

• Indirect, intangible benefit (such as air quality benefits, water quality benefits, socio-economic impacts, wildlife habitat, and watershed improvements).

b. Technical Approach Work Plan: Total Points 25

• Technical feasibility of the proposed work

• Adequacy and completeness of the proposed tasks

• Likelihood of meeting project objectives

• Reasonableness of time schedule

• Identified deliverables/tasks

• Timeliness—timeframe of the project

• Evaluation and monitoring plan

c. Financial Feasibility: Total Points 25

• Realistic budget and timeframe

• Thorough financial documentation (see description of required documentation under financial feasibility, Section 7. c.)

• Level of matching funds for the grant

d. Qualifications and Experience of Applicant: Total Points 10

• Experience, capabilities (technical and managerial)

• Demonstrated capacity

If there are no technical or financial problems for the project, full points are given. If there are minor deficiencies, which could limit success, midway points are given. If there are major deficiencies, which could render the project unsuccessful, minimum points are given.

6. Pre-Application Information. a. Pre-Application Submission. Pre-applications are required. Specific content and submission requirements for the pre-application are as follows: Each submittal must be composed of three paper copies (single-sided) of the pre-application plus one electronic copy on a CD or 3.5-inch diskette in Microsoft Word for PCs or pdf format. Paper copies of the pre-application must be on 8.5-by 11-inch plain white paper with a minimum font size of 11 letters per inch. Top, bottom, and side margins must be no less than three-quarters of an inch. All pages must be clearly numbered. The paper copies of the application package should be stapled with a single staple at the upper left-hand corner. No other bindings are accepted.

b. Pre-Application Content. Assemble information in the following order: Cover page, project summary, project narrative, statement of need, project coordinator(s) and partner(s), goals and objectives, technical approach work plan, impact on National Forest System lands on hazardous fuels treatments, evaluation and monitoring plan, budget justification narrative, budget, and appendices. The project narrative should provide a clear description of the work to be performed. It should address the technical approach work plan under criteria 2 in Section 5. The project narrative is limited to 5 pages, excluding cover page, and does not include the budget justification, budget, or appendices.

The discussion of the impact on National Forest System lands is a critical component because these proposals are aimed at helping the Forest Service increase the number of acres treated under hazardous fuel treatments (as defined under the Healthy Forest Restoration Act, Pub. L. 108-148) and decrease the cost. Applicants should describe qualitatively and quantitatively how the project would decrease Forest Service hazardous fuel removal costs and/or increase the price one might offer for the woody biomass. Specifically, proposals should address the following:

• Fire Regime Condition Class (http://www.frcc.gov).

• What Forest Service is currently doing with material removed from hazardous fuel activities.

• What would be done with this material if grant is awarded.

• Anticipated outcomes and measures of success.

• Documentation of costs and benefits of project as a result of the award (see financial templates on http://www.fpl.fs.fed.us).

• Documentation of intangible benefits. Examples of the information requested are listed on the Technology Marketing Unit's Web site at http://www.fpl.fs.fed.us/tmu (under Woody Biomass Grants).

• Long-Term Benefits of Project: Applicant should address the length of time the benefits and impacts are anticipated (e.g., project will have long-term consequences, such as equipment improvements, or a one-time benefit, such as a subsidy.)

• Expansion capability: Does the project have the potential to expand the application to additional forest treatment areas or to use more of the wood from treatments for higher valued uses?

A full description of each content item can be obtained from the Technology Marketing Unit's Web site at http://www.fpl.fs.fed.us/tmu (under Woody Biomass Grants), or by calling the telephone number in the FOR FURTHER INFORMATION CONTACT section, or by writing to the address in the ADDRESSES section of this notice.

c. Pre-Application Delivery. Pre-applications must be post marked by December 1, 2005, and received no later than 5 p.m. Central Standard Time on December 8, 2005, by the Technology Marketing Unit at the Forest Products Laboratory. Hand-delivered, e-mail, or fax applications shall not be accepted. No exceptions allowed. Please send pre-applications to the address listed in the ADDRESSES section of this notice.

7. Full-Application Information. USDA Forest Service will request full applications only from those applicants selected in the pre-application process.

a. Full-Application Submission. Specific content and submission requirements for the full application are as follows: Each submittal must be composed of three paper copies (single-sided) of the full application plus one electronic copy on a CD or 3.5-inch diskette in Microsoft Word for PCs or pdf format. Paper copies of the full application must be on 8.5- by 11-inch plain white paper with a minimum font size of 11 letters per inch. Top, bottom, and side margins must be no less than three-quarters of an inch. All pages must be clearly numbered. The paper copies of the application package should be stapled with a single staple at the upper left-hand corner. Other bindings will not be accepted.

b. Full-Application Content. Assemble information in the following order: Cover page, project summary, project narrative, statement of need, project coordinator(s) and partner(s), goals and objectives, technical approach work plan, impact on National Forest System lands on hazardous fuels treatments, environmental documentation, project work plan and timeline, social impacts, evaluation and monitoring, equipment description, budget justification, budget requirements, financial feasibility, and appendices. The project narrative should provide a clear description of the work to be undertaken and how it will be accomplished. It should address the technical approach work plan under criteria 2 listed in Section 5. The project narrative is limited to a total of 10 pages excluding cover page, budget justification, budget, appendices and financial documentation.

c. Detailed Financial Information. Detailed financial information is requested to assess the potential and the capability of the applicant. Financial information remains confidential. The financial information should provide a general overview of historical financial performance, projections (Pro Forma), and cash flow statements. Standard principles should be used for developing the required financial information. Strong applications have benefited from the use of a certified accountant to develop this information. Applicants should refer to the Technology Marketing Unit's Web site for the financial information templates, as well as an example http://www.fpl.fs.fed.us/tmu (under Woody Biomass Grants).

d. Full-Application Delivery. Full applications must be postmarked by March 1, 2006, and received no later than 5 p.m. Central Standard Time on March 8, 2006, by the Technology Marketing Unit at the Forest Products Laboratory. Hand-delivered, e-mail, or fax applications shall not be accepted. No exceptions allowed. Please send pre-applications to the address listed in the ADDRESSES section of this notice.

8. Appendices. The following information must be included in the appendix of the pre-application and the full-application package:

a. Letter of Support and Biomass Availability From Local USDA Forest Service District Ranger or Forest Supervisor: This letter must describe the status of National Environmental Policy Act (NEPA), acres, timeframes, available volumes, and opportunities for applicant to access these volumes.

b. Letters of Support From Partners, Individuals, or Organizations: Letters of support should be included in an appendix and are intended to display the degree of collaboration occurring between the different entities engaged in the project. These letters must include commitments of cash or in-kind services from all partners and must support the amounts listed in the budget. Each letter of support should be limited to one page in length.

c. Key Personnel Qualifications: Qualifications of the project manager should be included in an appendix. Qualifications are limited to two pages in length and should contain the following: resume, biographical sketch, references, and demonstrated ability to manage the grant.

Dated: September 26, 2005.
Kent P. Connaughton,
Associate Deputy Chief, State and Private Forestry.

[FR Doc. 05-19546 Filed 9-29-05; 8:45 am]

BILLING CODE 3410-11-P